DEPARTMENT OF THE TREASURY

Senior Executive Service Performance Review Boards

AGENCY: Department of the Treasury.

ACTION: Notice of appointments to Performance Review Boards (PRBs).

SUMMARY: Pursuant to 5 U.S.C. 4314(c)(4), this notice announces the appointment of members to the Department of the Treasury's Performance Review Boards (PRBs). The purpose of these Boards are to review and make recommendations concerning proposed performance appraisals, ratings, bonuses and other appropriate personnel actions for incumbents of SES positions in the Department.

Composition of the PRB: The Boards shall consist of at least three members. In the case of an appraisal of a career appointee, more than half the members shall consist of career appointees. The persons listed below may be selected to serve on one or more PRB within Treasury.

Names for Federal Register Publication

Top Officials

• Leonard Olijar, Director for the Bureau of Engraving and Printing

• Patricia Greiner, Deputy Director for Bureau of Engraving and Printing and Chief Administrative Officer

• Charlene William, Deputy Director for Bureau of Engraving and Printing and Chief Operating Officer

• Timothy Gribben, Commissioner for the Bureau of the Fiscal Service

• Tami Perriello, Deputy Commissioner (Finance and Administration), Bureau of the Fiscal Service

• Matthew J. Miller, Deputy Commissioner (Accounting and Shared Services), Bureau of the Fiscal Service

• Jeffrey J. Schramek, Deputy Commissioner (Financial Services and Operations), Bureau of the Fiscal Service

• Jeffrey Tribiano, Deputy Commissioner for Operations Support (IRS)

• Douglas O'Donell, Deputy Commissioner for Services and Enforcement (IRS)

• Mary G. Ryan, Administrator for the Alcohol and Tobacco Tax and Trade Bureau

• AnnaLou Tirol, Deputy Director, Financial Crimes Enforcement Network

• David Lebryk, Fiscal Assistant Secretary

• Laurie Schaffer, Principal Deputy General Counsel

• Addar, Levi, Deputy General Counsel

Departmental Offices

• John M. Farley, Director, Executive Office for Asset Forfeiture

• Benjamin Harris, Counselor to the Secretary

• Marti Pentheny Adams-Baker, Executive Secretary

• Donna Ragucci, Director for the Office of Small and Disadvantaged Business Utilization

• Elizabeth S. Rosenberg, Counselor to the Deputy Secretary

• Alfred Johnson, Deputy Chief of Staff

• Julie Siegel, Deputy Chief of Staff

• Jonathan Davidson, Counselor

• John Morton, Climate Counselor

• David Lipton, Counselor

• Brian Reissaus, Director, Investment Security

• Joseph Phillip Ludvigson, Director, Monitoring and Enforcement

• Patricia Pollard, Deputy Assistant Secretary for International Money and Financial Policy

• Matthew J. Mohlenkamp, Director, South and South East Asia

• Brian McCauley, Director, Office of Europe and Eurasia

• Clarence Severens, Director, Office of Development Results and Accountability

• Andy Baukol, Principal Deputy Assistant Secretary for International Monetary Policy

• Matthew Haarsager, Deputy Assistant Secretary for International Development Finance and Policy

• Robert Kaproth, Deputy Assistant Secretary for South and East Asia

• Michael Kaplan, Deputy Assistant Secretary for Western Hemisphere and South Asia

• Albert Lee, Director, Market Rooms

• William McDonald, Deputy Assistant Secretary for Technical Assistance Policy

• Lailee Moghtader, Deputy Assistant Secretary for Trade Policy

• Charles Moravec, Director, Multilateral Development Banks

• Jeffrey K. Baker, Deputy Assistant Secretary for Investment, Energy and Infrastructure

• Lida Fitts, Director, Energy and Infrastructure

• Anthony Ieronimo, Director, Office of Trade Finance

• Eric Meyer, Deputy Assistant Secretary for Africa, Middle East and MDB Operations

• Jason R. Orlando, Director, Office of Technical Assistance

• Matthew Swineheart, Director, International Financial Markets

• Stephen Ledbetter, Director of Policy

• Amy Edwards, Deputy Assistant Secretary (Accounting Policy and Financial Transparency)

• Gregory Till, Deputy Assistant Secretary for Fiscal Operations and Policy

• Christopher H. Kubeluis, Director for the Office of Fiscal Projections

• Theodore R. Kowalsky, Director for the Office of Grants and Asset Management

• Walter Kim, Director for the Office of Financial Institutions and Policy

• Felton Booker, Deputy Assistant Secretary, Financial Institution Policy

• Noel Poyo, Deputy Assistant Secretary for Community and Economic Development

• Christopher Weaver, Director, Office of Community and Economic Development

• Brian Peretti, Director of International Coordination and Mission Support

• Steven E. Seitz, Director for the Office of Federal Insurance Office

• Stephanie Schmelz, Deputy Director, Federal Insurance

• Rahul Prabhakar, Deputy Assistant Secretary for Cybersecurity and Critical Infrastructure

• Paul Neff, Director of Cyber Policy, Preparedness and Response

• Jodie L. Harris, Director for Community Development and Financial Institutions

• Dennis E. Nolan, Deputy Director for Finance and Operations

• Marcia Sigal, Deputy Director for Policy and Programs

• Brian M. Smith, Deputy Assistant Secretary for Federal Finance

• Gary Grippo, Deputy Assistant Secretary for Government Financial Policy

• Bonnie Adair Morse, Deputy Assistant Secretary for Capital Access

• Jeffrey Stout, Director of Federal Program Finance

• Fred Pietrangeli, Director for the Office of Debt Management

• Daniel J. Harty, Director, Capital Markets

• Melissa Moye, Director for State and Local Finance

• Andrea Gacki, Director for the Office of Foreign Assets Control

• Bradley T. Smith, Deputy Director for the Office of Foreign Assets Control

• Gregory Gatjanis, Associate Director for the Office of Global Targeting

• Lisa M. Palluconi, Associate Director for the Office of Program Policy and Implementation, Office of Foreign Assets Control

• John H. Battle, Associate Director for Resource Management, Office of Foreign Assets Control

• Billy Bradley, Deputy Director, Treasury Executive Office for Asset Forfeiture

• Lawrence Scheinert, Associate Director for the Office of Compliance and Enforcement

• Ripley Quinby, Deputy Associate Director, Office of Global Targeting

• Paul Ahern, Principal Deputy Assistant Secretary for Terrorist Financing and Financial Crimes

• Scott Rembrandt, Deputy Assistant Secretary for the Office of Strategic Policy, Terrorist Financing and Financial Crimes

• Anna Morris, Deputy Assistant Secretary for Global Affairs

• Rhett Skiles, Deputy Assistant Secretary, Cyber Intelligence

• Katherine Amlin, Deputy Assistant Secretary for Analysis and Production

• Thomas J. Wolverton, Deputy Assistant Secretary for Security and Counterintelligence

• Michael Neufeld, Principal Deputy Assistant Secretary for Support and Technology

• Patrick Conlon, Director for the Office of Economics and Finance

• Everette E. Jordan, Deputy Assistant Secretary for Intelligence Community Integration

• Todd Conklin, Chief Information Officer, Intelligence Platform and Innovation

• Aruna Kalyanam, Deputy Assistant Secretary for Legislative Affairs (Tax and Budget)

• Angel Nigaglioni, Deputy Assistant Secretary for Legislative Affairs (Appropriations and Management)

• Craig Radcliffe, Deputy Assistant Secretary for Legislative Affairs (Banking)

• Lily A. Adams, Principal Deputy Assistant Secretary for Public Affairs

• Antonio White, Deputy Assistant Secretary for Community Engagement

• Natasha R. Sarin, Deputy Assistant Secretary for Microeconomic Analysis

• Christopher J. Soares, Director, Office of Microeconomic Analysis

• Catherine Wolfram, Deputy Assistant Secretary, Climate and Energy Economics

• Jonathan S. Jaquette, Director for Receipts Forecasting

• Mark Mazur, Deputy Assistant Secretary for Tax Policy

• Neviana Petkova, Director for Individual Business and International Taxation

• Edith Brashares, Director for the Office of Tax Analysis

• Curtis Carlson, Director for Business Revenue

• Adam Cole, Director for Individual Taxation

• Timothy E. Skud, Deputy Assistant Secretary for Tax, Trade and Tariff Policy

• Robert E. Gillette, Director for Economic Modeling and Computer Applications

• Kimberly Clausing, Deputy Assistant Secretary for Tax Analysis

• Jose Murillo, Deputy Assistant Secretary for International Tax Affairs

• Thomas West, Deputy Assistant Secretary for Domestic Business Tax

• Itai Grinberg, Deputy Assistant Secretary for Multilateral Tax

• Rebecca Kysar, Counselor

• Ryan Law, Deputy Assistant Secretary for Privacy Transparency and Records

• Robert Mahaffie, Deputy Assistant Secretary for Management and Budget

• Tonya Burton, Director for the Office of Financial Management

• Lenora Stiles, Director, Strategic Planning and Performance Improvement

• Stephen Cotter, Director, Special Entity Accounting

• William Sessions, Departmental Budget Director

• Carole Y. Banks, Deputy Chief Financial Officer

• Nicole K. Evans, Director, Office of Procurement Executive

• J. Trevor Norris, Deputy Assistant Secretary for Human Resources and Chief Human Capital Officer

• Lorraine Cole, Director, Office of Minority and Women Inclusion

• Colleen Heller-Stein, Human Resource Officer for Departmental Offices/Deputy Chief Human Capital Officer

• Nancy Ostrowski, Director of DC Pensions

• David Aten, Director, Integrated Talent Management Implementation

• Antony P. Arcadi, Associate Chief Information Officer for Enterprise Infrastructure Operations

• Nicolaos Totten, Associate Chief Information Officer for Enterprise Application Services

• Michael O. Thomas, Deputy Assistant Secretary for Treasury Operations

Office of the General Counsel

• Hanoi Veras, Deputy Assistant General Counsel (Ethics)

• Heather Trew, Assistant General Counsel (Enforcement and Intelligence)

• Frank P. Menna, Deputy Assistant General Counsel (Enforcement and Intelligence)

• Jacob Loshin, Deputy Assistant General Counsel (Enforcement and Intelligence)

• Jason M. Prince, Chief Counsel, Office of Foreign Assets Control

• Eric Froman, Assistant General Counsel (Banking and Finance)

• Stephen Milligan, Deputy Assistant General Counsel (Banking and Finance)

• Theodore Posner, Assistant General Counsel (International Affairs)

• Alexandra Yestrumskas, Deputy Assistant General Counsel (International Affairs)

• Jeffrey M. Klein, Deputy Assistant General Counsel (International Affairs)

• Brian J. Sonfield, Assistant General Counsel (General Law, Ethics and Regulation)

• Michael Briskin, Deputy Assistant General Counsel (General Law and Regulation)

• Kevin Nichols, International Tax Counsel

• Krishna Prasad Vallabhaneni, Tax Legislative Counsel

• Carol Ann Weiser, Benefits Tax Counsel

• Helen Morrison, Deputy Benefits Tax Counsel

• Brett Steven York, Deputy Tax Legislative Counsel

• Michelle Dickerman, Deputy Assistant General Counsel for Oversight and Litigation

• Katrina Carroll, Chief Counsel for the Financial Crimes Enforcement Network

• Heather Book, Chief Counsel for the Bureau of Engraving and Printing

• John F. Schorn, Chief Counsel for the U.S. Mint

• Lillian Lai-Lin Cheng, Chief Counsel for the Bureau of the Fiscal Service

• Anthony P. Gledhill, Chief Counsel for the Tax and Trade Bureau

Bureau of Engraving and Printing

• Judith Diazmyers, Senior Advisor

• Steven Fisher, Associate Director (Chief Financial Officer)

• Richard Roy Clark, Associate Director (Quality)

• Frank Freeman III, Associate Director (Management)

• Justin D. Draheim, Associate Director (Product Design and Development)

• Harinder Singh, Associate Director, (Chief Information Officer)

• Yolanda Ward, Associate Director, Manufacturing (DCF)

Financial Crimes Enforcement Network

• Himamauli Das, Counselor to the Director of the Financial Crimes and Enforcement Network

• Amy L. Taylor, Associate Director, Technology Solutions and Services/CIO

• Peter Bergstrom, Associate Director, Management/CFO

• Felicia Swindells, Associate Director, Policy Division

• Jimmy Kirby Jr, Associate Director, Intelligence Division

• Kenneth L. O'Brien, Deputy Associate Director, Chief Technology Officer

• Matthew R. Stiglitz, Associate Director, Global Investigations Division

• Timothy Ott, Strategic Advisor

U.S. Mint

• Matthew Holben, Associate Director for Sales and Marketing/Chief Marketing and Sales Officer

• Kristie L. McNally, Associate Director for Financial Management/CFO

• David Croft, Associate Director for Manufacturing

• Francis O'Hearn, Associate Director for Information Technology

• Robert Kuryzna, Plant Manager, Philadelphia

• B.B. Craig, Associate Director for Environment, Safety and Health

• Allison Doone, Chief Administrative Officer

• Randall Johnson, Plant Manager for Denver

Tax and Trade Bureau

• Daniel T. Riordan, Assistant Administrator, Permitting and Taxation

• Cheri Mitchell, Assistant Administrator, Management/CFO

• Robert Hughes, Assistant Administrator, Information Resources/CIO

• Elisabeth C. Kann, Assistant Administrator, External Affairs/Chief of Staff

Bureau of the Fiscal Service

• Keith Alderson, Director (DMSOC-East)

• Douglas Anderson, Assistant Commissioner (Retail Securities Services)

• Daniel Berger, Deputy Assistant Commissioner (Management)

• Linda C. Chero, Director, (RFC Philadelphia)

• David T. Copenhaver, Assistant Commissioner (Wholesale Securities Services)

• Christina M. Cox, Deputy Assistant Commissioner (Payment Management)

• Paul Deuley, Senior Advisor

• Peter T. Genova, Deputy Assistant Commissioner for Security Services/Deputy Chief Information Officer

• Joseph Gioeli, Assistant Commissioner (Information and Security Services)

• Adam H. Goldberg, Executive Architect (Financial Innovation)

• Jason T. Hill, Deputy Assistant Commissioner (Shared Services)

• John B. Hill, Director (Financial Innovation and Transformation)

• Wallace H. Ingram, Director (DMSOC-West)

• Amanda M. Kupfner, Deputy Assistant Commissioner for Infrastructure and Operations

• Madiha D. Latif, Director (Compliance and Reporting Group)

• D. Michael Linder, Assistant Commissioner (Fiscal Accounting)

• Tricia J. Long, Deputy Assistant Commissioner (Debt Management Services)

• Justin Marsico, Chief Data Officer (Deputy Assistant Commissioner)

• Nathanial Reboja, Deputy Assistant Commissioner for Information Services

• Sandra Paylor, Director (Revenue Collection Group)

• Alyssa W. Riedl, Executive Director, Transforming Tax Collections

• Vona Susan Robinson, Executive Director (Kansas City)

• Tamela Saiko, Deputy Assistant Commissioner (Fiscal Accounting Operations)

• Lori Santamorena, Executive Director (Government Securities Regulations Staff)

• Dara N. Seaman, Senior Advisor (Services and Programs)

• Thomas T. Vannoy, Deputy Assistant Commissioner (Wholesale Securities Services)

• Daniel J. Vavasour, Assistant Commissioner (Debt Management Services)

DATES: Effective Date: Membership is effective on the date of this notice.

FOR FURTHER INFORMATION CONTACT: Julia J. Markham or Kimberly Jackson, Office of Executive Resources, 1500 Pennsylvania Avenue NW, ATTN: 1722 Eye Street, 9th Floor, Washington, DC 20220, Telephone: 202-622-0774.

Kimberly Jackson,
Human Resources Specialist, Office of Executive Resources.

[FR Doc. 2021-20812 Filed 9-24-21; 8:45 am]

BILLING CODE 4810-25-P